DEPARTMENT OF AGRICULTURE

Animal and Plant Health Inspection Service

[Docket No. APHIS-2025-0009]

Addition of El Salvador and Belize to the List of Regions Affected With Screwworm

AGENCY: Animal and Plant Health Inspection Service, USDA.

ACTION: Notice.

SUMMARY: We are advising the public that we added El Salvador and Belize to the list of regions Animal and Plant Health Inspection Service (APHIS) considers affected with screwworm. We took these actions because of the confirmation of screwworm in these regions.

DATES: El Salvador and Belize were added to the list of regions APHIS considers affected with screwworm, effective respectively on December 17, 2024, and January 7, 2025.

FOR FURTHER INFORMATION CONTACT: Dr. C. Aaron Monroy, APHIS Veterinary Services, Regionalization Evaluation Services, Strategy and Policy, 920 Main Campus Drive, Venture II, Raleigh, NC 27606; phone: (919) 855-7207; email: AskRegionalization@usda.gov.

SUPPLEMENTARY INFORMATION: The regulations in 9 CFR part 93 (referred to below as the regulations) prohibit or restrict the importation of certain animals into the United States to prevent the introduction of communicable diseases and pests of livestock. Subparts C, D, E, and F of the regulations govern the importation of horses, ruminants, swine, and dogs, respectively.

Horses, ruminants, swine, and dogs may be imported into the United States from the regions where screwworm is considered to exist only if they are inspected and, if necessary, treated for screwworm according to the conditions outlined in the regulations for each type of animal. The requirements for horses are set out in § 93.308(a)(3) and include not only pre-embarkation and post-arrival inspection and treatment requirements, but also quarantine in the United States for 7 days after arrival, and examination by a veterinarian before release from quarantine. The requirements for ruminants and swine are set out in §§ 93.405(a)(3) and 93.505(b), respectively, and are the same as for horses, other than the 7-day quarantine and final examination of the animal. The requirements for dogs are set out in § 93.600 and require that all dogs from affected regions be inspected and, if necessary, treated before importation.

The Animal and Plant Health Inspection Service (APHIS) maintains a list of regions APHIS considers affected with screwworm on its website at http://www.aphis.usda.gov/animalhealth/disease-status-of-regions/. APHIS will add a region to the list upon determining that screwworm exists in the region based on reports we receive of detections of the pest from veterinary officials of the exporting country, from the World Organization for Animal Health (WOAH), or from other sources the Administrator determines to be reliable.

On December 14, 2024, WOAH received a report from El Salvador documenting an outbreak of New World screwworm (Cochliomyia hominivorax) in cattle. Accordingly, on December 17, 2024, APHIS added El Salvador to the list of regions APHIS considers affected with screwworm.

On January 3, 2025, WOAH received a report from Belize documenting an outbreak of New World screwworm in cattle. Accordingly, on January 7, 2025, APHIS added Belize to the list of regions APHIS considers affected with screwworm.

As a result, horses, ruminants, swine, and dogs from El Salvador and Belize are subject to APHIS import restrictions designed to mitigate risk of screwworm introduction into the United States. This notice serves as an official record and public notification of these actions.

(Authority: 7 U.S.C. 1622 and 8301-8317; 21 U.S.C. 136 and 136a; 31 U.S.C. 9701; 7 CFR 2.22, 2.80, and 371.4).

Done in Washington, DC, this 9th day of June 2025.
Michael Watson,
Administrator, Animal and Plant Health Inspection Service.

[FR Doc. 2025-10802 Filed 6-12-25; 8:45 am]

BILLING CODE P